DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2011 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Rod Markham, Director, Human Resources, Justice Management Division, Department of Justice, Washington, DC 20530; (202) 514-4350.

Lee J. Lofthus,
Assistant Attorney General for Administration.

2011 Federal Register
Name | Position title
Office of the Attorney General—OAG
GRINDLER, GARY | CHIEF OF STAFF.
DELERY, STUART | COUNSELOR TO THE ATTORNEY GENERAL.
MORAN, MOLLY | COUNSELOR TO THE ATTORNEY GENERAL.
RICHARDSON, MARGARET | DEPUTY CHIEF OF STAFF AND COUNSELOR.
Office of the Deputy Attorney General—ODAG
GOLDBERG, STUART | PRINCIPAL ASSOCIATE DEPUTY ATTORNEY GENERAL.
MARGOLIS, DAVID | ASSOCIATE DEPUTY ATTORNEY GENERAL.
BAKER, JAMES | ASSOCIATE DEPUTY ATTORNEY GENERAL.
BURROWS, CHARLOTTE | ASSOCIATE DEPUTY ATTORNEY GENERAL.
REICH, STEVEN | ASSOCIATE DEPUTY ATTORNEY GENERAL.
SCHOOLS, SCOTT N | ASSOCIATE DEPUTY ATTORNEY GENERAL.
WEINER, ROBERT N | ASSOCIATE DEPUTY ATTORNEY GENERAL.
LIBIN, NANCY | CHIEF PRIVACY AND CIVIL LIBERTIES OFFICER.
OHLSON, KEVIN A | CHIEF, PROFESSIONAL MISCONDUCT REVIEW UNIT.
Office of the Associate Attorney General—OASG
TAYLOR, ELIZABETH GORDON | PRINCIPAL DEPUTY ASSOCIATE ATTORNEY GENERAL.
CHUN, A. MARISA | DEPUTY ASSOCIATE ATTORNEY GENERAL.
GREENFELD, HELAINE ANN | DEPUTY ASSOCIATE ATTORNEY GENERAL.
HIRSCH, SAMUEL | DEPUTY ASSOCIATE ATTORNEY GENERAL.
MASON, KAROL V | DEPUTY ASSOCIATE ATTORNEY GENERAL.
CHILDRESS, MARK | SENIOR COUNSELOR FOR ACCESS TO JUSTICE.
Office of the Solicitor General—OSG
DREEBEN, MICHAEL R | DEPUTY SOLICITOR GENERAL.
KNEEDLER, EDWIN S | DEPUTY SOLICITOR GENERAL.
STEWART, MALCOLM L | DEPUTY SOLICITOR GENERAL.
Antitrust Division—ATR
POZEN, SHARIS | PRINCIPAL DEPUTY ASSISTANT ATTORNEY GENERAL.
WAYLAND, JOSEPH F | DEPUTY ASSISTANT ATTORNEY GENERAL.
HAMMOND, SCOTT D | DEPUTY ASSISTANT ATTORNEY GENERAL.
FORREST, KATHERINE B | DEPUTY ASSISTANT ATTORNEY GENERAL.
O'SULLIVAN, CATHERINE G | CHIEF, APPELLATE SECTION.
POTTER, ROBERT A | CHIEF, LEGAL POLICY SECTION.
KURSH, GAIL | DEPUTY CHIEF, LEGAL POLICY SECTION.
ARMINGTON, ELIZABETH J | ECONOMIST ADVISOR.
BRINK, PATRICIA A | ATTORNEY ADVISOR.
CONNOLLY, ROBERT E | CHIEF, PHILADELPHIA FIELD OFFICE.
CURRIE, DUNCAN S | CHIEF, DALLAS FIELD OFFICE.
DAVIS, NEZIDA S | CHIEF, ATLANTA FIELD OFFICE.
FAMILANT, NORMAN | CHIEF, ECONOMIC LITIGATION SECTION.
GIORDANO, RALPH T | SENIOR COUNSEL FOR CRIMINAL ENFORCEMENT.
HAND, EDWARD T | CHIEF, FOREIGN COMMERCE SECTION.
HEYER, KENNETH | CHIEF, COMPETITION POLICY SECTION.
KIMMELMAN, EUGENE I | CHIEF COUNSEL FOR COMPETITION POLICY AND INTERGOVERNMENTAL RELATIONS.
KING, THOMAS D | EXECUTIVE OFFICER.
KRAMER II, J. ROBERT | DIRECTOR OF OPERATIONS.
MAJURE, WILLIAM ROBERT | DIRECTOR OF ECONOMICS.
MCEVOY, DEIRDRE A | CHIEF, NEW YORK FIELD OFFICE.
PETRIZZI, MARIBETH | CHIEF, LITIGATION II SECTION.
PHELAN, LISA M | CHIEF, NATIONAL CRIMINAL ENFORCEMENT SECTION.
PRICE JR., MARVIN N | CHIEF, CHICAGO FIELD OFFICE.
READ, JOHN R | CHIEF, LITIGATION III SECTION.
SIEGEL, MARC | DIRECTOR OF CRIMINAL ENFORCEMENT.
SOVEN, JOSHUA H | CHIEF, LITIGATION I SECTION.
TERZAKEN III, JOHN F | ATTORNEY ADVISOR.
TIERNEY, JAMES J | CHIEF, NETWORKS AND TECHNOLOGY ENFORCEMENT SECTION.
WARREN, PHILLIP H | CHIEF, SAN FRANCISCO FIELD OFFICE.
WATSON, SCOTT M | CHIEF, CLEVELAND FIELD OFFICE.
WERDEN, GREGORY J | ECONOMIST ADVISOR.
Bureau of Alcohol, Tobacco, Firearms, and Explosives—ATF
MELSON, KENNETH | DEPUTY DIRECTOR.
CHAIT, MARK R | ASSISTANT DIRECTOR, FIELD OPERATIONS.
BOXLER, MICHAEL | DEPUTY ASSISTANT DIRECTOR, FIELD OPERATIONS (PROGRAMS).
CZARNOPYS, GREGORY P | DEPUTY ASSISTANT DIRECTOR, FORENSIC SERVICES.
FICARETTA, TERESA G | DEPUTY ASSISTANT DIRECTOR, ENFORCEMENT PROGRAM AND SERVICES.
FORD, WILFRED L | ASSISTANT DIRECTOR, OFFICE OF STRATEGIC INTELLIGENCE AND INFORMATION.
HERBERT, ARTHUR W | ASSISTANT DIRECTOR, ENFORCEMENT PROGRAM AND SERVICES.
HOLGATE, HENRY R | ASSISTANT DIRECTOR, SCIENCE AND TECHNOLOGY/CIO.
MARTIN, STEPHEN K | DEPUTY ASSISTANT DIRECTOR, OFFICE OF STRATEGIC INTELLIGENCE AND INFORMATION.
MCCABE III, HARRY L | DEPUTY ASSISTANT DIRECTOR, INDUSTRY OPERATIONS.
MCDERMOND, JAMES E | ASSISTANT DIRECTOR, OFFICE OF PUBLIC AND GOVERNMENTAL AFFAIRS.
MCMAHON JR., WILLIAM G | DEPUTY ASSISTANT DIRECTOR, OFFICE OF PROFESSIONAL RESPONSIBILITY AND SECURITY OPERATIONS.
MICHALIC, VIVIAN B | ASSISTANT DIRECTOR, MANAGEMENT AND CHIEF FINANCIAL OFFICER.
POTTER, MARK W | DEPUTY ASSISTANT DIRECTOR, FIELD OPERATIONS-WEST.
STINNETT, MELANIE S | ASSISTANT DIRECTOR, OFFICE OF PROFESSIONAL RESPONSIBILITY AND SECURITY OPERATIONS.
STUCKO, AUDREY M | DEPUTY ASSISTANT DIRECTOR, HUMAN RESOURCES AND PROFESSIONAL DEVELOPMENT.
TORRES, JULIE | DEPUTY ASSISTANT DIRECTOR, FIELD OPERATIONS-EAST.
TURK, RONALD B | DEPUTY ASSISTANT DIRECTOR, FIELD OPERATIONS-CENTRAL.
ANDERSON, GLENN N | SPECIAL AGENT IN CHARGE, NASHVILLE.
BARRERA, HUGO J | SPECIAL AGENT IN CHARGE, MIAMI.
BRANDON, THOMAS E | SPECIAL AGENT IN CHARGE, DETROIT.
BROWNING, ROBERT J | SPECIAL AGENT IN CHARGE, COLUMBUS.
CHAMPION, ROBERT R | SPECIAL AGENT IN CHARGE, DALLAS.
CRENSHAW, KELVIN N | SPECIAL AGENT IN CHARGE, SEATTLE.
DURHAM, PHILLIP M | SPECIAL AGENT IN CHARGE, NEW ORLEANS.
GANT, GREGORY K | SPECIAL AGENT IN CHARGE, ATLANTA.
GLEYSTEEN, MICHAEL P | SPECIAL AGENT IN CHARGE, KANSAS CITY.
GRAHAM, ZEBEDEE T | SPECIAL AGENT IN CHARGE, CHARLOTTE.
HERKINS, STEPHEN C | SPECIAL AGENT IN CHARGE, SAN FRANCISCO.
HOOVER, WILLIAM J | SPECIAL AGENT IN CHARGE, WASHINGTON D.C.
HORACE, MATTHEW W | SPECIAL AGENT IN CHARGE, NEWARK.
LOOS, ELEANER R | ASSOCIATE CHIEF COUNSEL, LITIGATION.
NEWELL, WILLIAM D | COUNTRY ATTACHE FOR MEXICO.
O'BRIEN, VIRGINIA T | SPECIAL AGENT IN CHARGE, TAMPA.
RICHARDSON, MARVIN G | SPECIAL AGENT IN CHARGE, DENVER.
RIEHL, JOSEPH M | DEPUTY DIRECTOR, TEDAC.
RUBENSTEIN, STEPHEN R | CHIEF COUNSEL.
STOOP, THERESA R | SPECIAL AGENT IN CHARGE, BALTIMORE.
THOMAS, GUY N | SPECIAL AGENT IN CHARGE, BOSTON.
TORRES, JOHN A | SPECIAL AGENT IN CHARGE, LOS ANGELES.
TRAVER, ANDREW L | SPECIAL AGENT IN CHARGE, CHICAGO.
VIDO, PAUL J | SPECIAL AGENT IN CHARGE, LOUISVILLE.
WEBB, JAMES D | SPECIAL AGENT IN CHARGE, HOUSTON.
ZAPOR, BERNARD J | SPECIAL AGENT IN CHARGE, ST PAUL.
Bureau of Prisons—BOP
DALIUS JR., WILLIAM F | ASSISTANT DIRECTOR, ADMINISTRATION DIVISION.
WHITE, KIM M | ASSISTANT DIRECTOR, HUMAN RESOURCES MANAGEMENT DIVISION.
GARRETT, JUDITH | SENIOR DEPUTY ASSISTANT DIRECTOR, INFORMATION, POLICY AND PUBLIC AFFAIRS DIVISION.
GROSS, BRADLEY T | SENIOR DEPUTY ASSISTANT DIRECTOR, ADMINISTRATION DIVISION.
HOLLEMBAEK, STEPHANIE | SENIOR DEPUTY ASSISTANT DIRECTOR, HEALTH SERVICES DIVISION.
JOSLIN, DANIEL M | SENIOR DEPUTY ASSISTANT DIRECTOR, HUMAN RESOURCE MANAGEMENT DIVISION.
HYLE, KENNETH SENIOR | DEPUTY GENERAL COUNSEL, OGC.
KANE, THOMAS R | ASSISTANT DIRECTOR, INFORMATION, POLICY, AND PUBLIC AFFAIRS DIVISION.
KENNEY, KATHLEEN M | ASSISTANT DIRECTOR, OFFICE OF GENERAL COUNSEL.
EICHENLAUB, LOUIS C | REGIONAL DIRECTOR, MIDDLE ATLANTIC REGION.
KENDALL, PAUL F | SENIOR COUNSEL, OGC.
LAIRD, PAUL A | ASSISTANT DIRECTOR, INDUSTRIES, EDUCATION AND VOCATIONAL TRAINING DIVISION.
MARBERRY, HELEN J | ASSISTANT DIRECTOR, PROGRAM REVIEW DIVISION.
MITCHELL, MARY M | SENIOR DEPUTY ASSISTANT DIRECTOR, CORRECTIONAL PROGRAMS DIVISION.
SAMUELS JR., CHARLES E | ASSISTANT DIRECTOR CORRECTIONAL PROGRAMS DIVISION.
SIBAL, PHILIP | SENIOR DEPUTY ASSISTANT DIRECTOR, INDUSTRIES, EDUCATION AND VOCATIONAL TRAINING DIVISION.
BEAUCLAIR, THOMAS J | SENIOR DEPUTY DIRECTOR, NATIONAL INSTITUTE OF CORRECTIONS.
APKER JR., LIONEL C | COMPLEX WARDEN-USP, FCC, TUSCON, AZ.
THIGPEN SR., MORRIS L | DIRECTOR, NATIONAL INSTITUTE OF CORRECTIONS.
ATKINSON, KENNETH R | WARDEN, FCI, EDGEFIELD, SC.
AUGUSTINE, PAIGE A | WARDEN, FCI MARIANNA, FL.
BABCOCK, MIKE H | WARDEN, FCI, HERLONG, CA.
BERKEBILE, DAVID | WARDEN, USP, BIG SANDY, KY.
BILLINGSLEY, TERRY L | WARDEN, FCI, OTISVILLE, NY.
BLEDSOE, BRYAN A | WARDEN, USP, LEWISBURG, PA.
CARAWAY, JOHN | WARDEN, FCI, CUMBERLAND, MD.
CASTILLO, JUAN D | WARDEN, USMCFP, SPRINGFIELD, MO.
COPENHAVER, PAUL J | WARDEN, FCI, MENDOTA, CA.
CROSS JR., JAMES | WARDEN, FCI, GREENVILLE, IL.
DANIELS, CHARLES A | WARDEN-USP, FCC, FLORENCE, CO.
DAVIS, BLAKE R | COMPLEX WARDEN-ADX, FCC, FLORENCE, CO.
DEBOO, KUMA J | WARDEN, FCI, GILMER, WV.
DREW, DARLENE | WARDEN, FCI, BENNETTSVILLE, SC.
DREW, DARRYL | COMPLEX WARDEN-USP2, FCC, COLEMAN, FL.
FOX, JOHN B | COMPLEX WARDEN-USP2, FCC, BEAUMONT, TX.
GRONDOLSKY, JEFF F | WARDEN, FMC, DEVENS, MA.
HASTINGS, SUZANNE R | WARDEN, MCC, NEW YORK, NY.
HAYNES, ANTHONY | WARDEN, FCI, JESUP, GA.
HICKEY, DEBORAH A | WARDEN, FMC, LEXINGTON, KY.
HOGSTEN, KAREN F | WARDEN, FCI, MANCHESTER, KY.
HOLLINGSWORTH, LISA W | WARDEN, USP, LEAVENWORTH, KS.
HOLT, RAYMOND E | REGIONAL DIRECTOR, SOUTHEAST REGION.
HOLT, RONNIE R | WARDEN, USP, CANAAN, PA.
HUFFORD, HOWARD L | WARDEN, FCI, SCHUYLKILL, PA.
IVES, RICHARD B | WARDEN, USP, MCCREARY, KY.
JETT, BRIAN R | WARDEN, FMC, ROCHESTER, MN.
JOHNS, TRACY W | WARDEN-FCI2+LSCI, FCC, BUTNER, NC.
KASTNER, PAUL A | WARDEN, FTC, OKLAHOMA CITY, OK.
KEFFER, JOSEPH | WARDEN, FMC, CARSWELL, TX.
KELLER, JEFFERY A | WARDEN, USP, ATLANTA, GA.
LEDEZMA, HECTOR A | WARDEN, FCI, EL RENO, OK.
LOCKETT, CHARLES L | COMPLEX WARDEN-USP, FCC, TERRE HAUTE, IN.
LONGLEY, ARCHELAUS | WARDEN, FCI, MCKEAN, PA.
MALDONADO JR., GERARDO | REGIONAL DIRECTOR, SOUTH CENTRAL REGION.
MARTINEZ, JERRY C | WARDEN, MDC, GUAYNABO, PUERTO RICO.
MARTINEZ, RICARDO | WARDEN, FCC, ALLENWOOD, PA.
MCFADDEN, ROBERT E | REGIONAL DIRECTOR, WESTERN REGION.
MCGREW, LINDA T | WARDEN, FDC, MIAMI, FL.
NALLEY, MICHAEL K | REGIONAL DIRECTOR, NORTH CENTRAL REGION.
NORWOOD, JOSEPH L | REGIONAL DIRECTOR, NORTHEAST REGION.
O'BRIEN, TERENCE T | WARDEN, USP, HAZELTON, WV.
OUTLAW, TIMOTHY C | COMPLEX WARDEN, FCC, FORREST CITY, AR.
OWEN, JOHN R | WARDEN, FCI, WILLAIMSBURG, SC.
PEARSON, BRUCE A | COMPLEX WARDEN, FCC, YAZOO CITY, MS.
QUINTANA, FRANCISCO J | COMPLEX WARDEN, FCC, VICTORVILLE, CA.
RATHMAN, JOHN T | WARDEN, FCI, TALLADEGA, AL.
REVELL, SARA M | COMPLEX WARDEN-FMC, FCC, BUTNER, NC.
RIOS JR., HECTOR | WARDEN, USP, ATWATER, CA.
RIOS, RICARDO | WARDEN, FCI, PEKIN, IL.
RIVERA, MILDRED | WARDEN, FCI, ESTILL, SC.
ROY, KEITH | WARDEN, FCI, THREE RIVERS, TX.
SANDERS, LINDA L | COMPLEX WARDEN, FCC, LOMPOC, CA.
SCHULT, DEBORAH G | WARDEN, FCI, BERLIN, NH.
SHARTLE, JOHN T | WARDEN, FCI, FAIRTON, NJ.
SHERROD, WILLIAM | COMPLEX WARDEN-USP, FCC, POLLUCK, LA.
SMITH, DENNIS R | WARDEN, FCI, PHOENIX, AZ.
TERRELL, DUDLEY J | WARDEN, MDC, BROOKLYN, NY.
THOMAS, JEFFREY E | WARDEN, FCI, SHERIDAN, OR.
THOMAS, LINDA R | WARDEN, MDC, LOS ANGELES, CA.
WARNER, WENDY J | WARDEN, USP, MARION, IL.
WILSON, ERIC D | COMPLEX WARDEN, FCC, PETERSBURG, VA.
YOUNG JR., JOSEPH P | COMPLEX WARDEN, FCC, OAKDALE, LA.
ZICKEFOOSE, DONNA R | WARDEN, FCI, FORT DIX, NJ.
ZIEGLER, JOEL | WARDEN, FCI, BECKLEY, WV.
ZYCH, CHRISTOPHER | WARDEN, USP, LEE COUNTY, VA.
Civil Division—CIV
BRINKMANN, BETH S | DEPUTY ASSISTANT ATTORNEY GENERAL.
GERSHENGORN, IAN H | DEPUTY ASSISTANT ATTORNEY GENERAL.
HERTZ, MICHAEL F | DEPUTY ASSISTANT ATTORNEY GENERAL.
ORRICK, WILLIAM H | DEPUTY ASSISTANT ATTORNEY GENERAL.
ANDERSON, DANIEL R | DEPUTY DIRECTOR, COMMERCIAL LITIGATION BRANCH.
ZWICK, KENNETH L | DIRECTOR, OFFICE OF MANAGEMENT PROGRAMS.
BAXTER, FELIX V | BRANCH DIRECTOR.
BRANDA, JOYCE R | DIRECTOR, COMMERCIAL LITIGATION BRANCH.
SMITH, MARY L | COUNSELOR TO THE ASSISTANT ATTORNEY GENERAL.
COPPOLINO, ANTHONY J | SPECIAL LITIGATION COUNSEL.
DAVIDSON, JEANNE E | DIRECTOR, COMMERCIAL LITIGATION BRANCH.
SNEE, BRYANT G | DEPUTY DIRECTOR, COMMERCIAL LITIGATION BRANCH.
FARGO, JOHN J | DIRECTOR, COMMERCIAL LITIGATION BRANCH.
FROST, PETER F | DIRECTOR, AVIATION AND ADMIRALTY SECTION.
GARREN, TIMOTHY PATRICK | DIRECTOR, CONSTITUTIONAL AND SPECIALIZED TORT LITIGATION SECTION.
GLYNN, JOHN PATRICK | DIRECTOR, ENVIRONMENTAL TORT LITIGATION SECTION.
GRANSTON, MICHAEL D | DEPUTY DIRECTOR, COMMERCIAL LITIGATION BRANCH.
HAUSKEN, GARY L | SENIOR PATENT ATTORNEY.
HOLLIS, ROBERT MARK | DIRECTOR, COMMERCIAL LITIGATION BRANCH.
HUGHES, TODD M | DEPUTY DIRECTOR, COMMERCIAL LITIGATION BRANCH.
HUNT, JOSEPH H | BRANCH DIRECTOR.
GARVEY, VINCENT M | DEPUTY BRANCH DIRECTOR.
SHAPIRO, ELIZABETH J | DEPUTY BRANCH DIRECTOR.
HUSSEY, THOMAS W | SPECIAL IMMIGRATION COUNSEL.
KANTER, WILLIAM G | DEPUTY DIRECTOR, APPELLATE STAFF.
KIRSCHMAN JR., ROBERT E | DEPUTY DIRECTOR, COMMERCIAL LITIGATION BRANCH.
KLINE, DAVID J | DIRECTOR, OFFICE OF IMMIGRATION LITIGATION, DISTRICT COURT.
KOHN, J. CHRISTOPHER | DIRECTOR, COMMERCIAL LITIGATION BRANCH.
KOPP, ROBERT E | DIRECTOR, APPELLATE STAFF.
LETTER, DOUGLAS N | APPELLATE LITIGATION COUNSEL.
LIEBER, SHEILA M | DEPUTY BRANCH DIRECTOR.
LOEB, ROBERT M | SENIOR LEVEL APELLATE COUNSEL.
MCCONNELL, DAVID M | DIRECTOR, OFFICE OF IMMIGRATION LITIGATION, APPELLATE SECTION.
MCINTOSH, SCOTT R | SENIOR LEVEL APELLATE COUNSEL.
O'MALLEY, BARBARA B | SPECIAL LITIGATION COUNSEL, AVIATION AND ADMIRALTY SECTION.
PYLES, PHYLLIS J | DIRECTOR, FEDERAL TORT CLAIMS ACT SECTION.
RICKETTS, JENNIFER D | BRANCH DIRECTOR.
ROGERS, MARK W | SENIOR TRIAL ATTORNEY, CONSTITUTIONAL SECTION.
RUDY, SUSAN K | SENIOR TRIAL ATTORNEY.
STEMPLEWICZ, JOHN | SENIOR TRIAL ATTORNEY.
STERN, MARK B | APPELLATE LITIGATION COUNSEL.
Civil Rights Division—CRT
AUSTIN, ROY | DEPUTY ASSISTANT ATTORNEY GENERAL.
FERNANDES, JULIE A | DEPUTY ASSISTANT ATTORNEY GENERAL.
KING, LORETTA | DEPUTY ASSISTANT ATTORNEY GENERAL.
RODRIGUEZ, LEON | DEPUTY ASSISTANT ATTORNEY GENERAL.
BALDWIN, KATHERINE A | DEPUTY SPECIAL COUNSEL FOR IMMIGRATION-RELATED UNFAIR EMPLOYMENT PRACTICES.
BHARGAVA, ANURIMA | CHIEF, EDUCATIONAL OPPORTUNITIES SECTION.
BROWN-CUTLAR, SHANETTA Y | COUNSEL TO THE SPECIAL LITIGATION SECTION CHIEF.
FLYNN, DIANA KATHERINE | CHIEF, APPELLATE SECTION.
GINSBURG, JESSICA A | COUNSEL TO THE ASSISTANT ATTORNEY GENERAL.
GREENE, IRVA D | EXECUTIVE OFFICER.
GROSS, MARK L | COMPLAINT ADJUDICATION OFFICER.
HERREN JR., THOMAS C | CHIEF, VOTING SECTION.
JANG, DEEANA L | CHIEF, COORDINATION AND REVIEW SECTION.
KAPPELHOFF, MARK JOHN | CHIEF, CRIMINAL SECTION.
KENNEBREW, DELORA | CHIEF, EMPLOYMENT LITIGATION SECTION.
KOWALSKI, BARRY F | SPECIAL LEGAL COUNSEL.
MOOSSY, ROBERT J | PRINCIPAL DEPUTY CHIEF, CRIMINAL SECTION.
ROSENBAUM, STEVEN H | CHIEF, HOUSING AND CIVIL ENFORCEMENT SECTION.
SAMUELS, JOCELYN | COUNSELOR TO THE ASSISTANT ATTORNEY GENERAL.
SILVER, JESSICA D | SENIOR APPELLATE COUNSEL.
SMITH, JONATHAN M | CHIEF, SPECIAL LITIGATION SECTION.
WERTZ, REBECCA | PRINCIPAL DEPUTY CHIEF, VOTING SECTION.
Criminal Division—CRM
RAMAN, MYTHILI | PRINCIPAL DEPUTY ASSISTANT ATTORNEY GENERAL & CHIEF OF STAFF.
BLANCO, KENNETH A | DEPUTY ASSISTANT ATTORNEY GENERAL.
BROWN, MARY PATRICE | DEPUTY ASSISTANT ATTORNEY GENERAL.
WEINSTEIN, JASON | DEPUTY ASSISTANT ATTORNEY GENERAL.
SWARTZ, BRUCE CARLTON | DEPUTY ASSISTANT ATTORNEY GENERAL.
AINSWORTH, PETER J | SENIOR DEPUTY CHIEF, PUBLIC INTEGRITY SECTION.
ALEXANDRE, CARL | DIRECTOR, OPDAT.
CALVERY, JENNIFER | CHIEF, ASSET FORFEITURE AND MONEY LAUNDERING SECTION.
CARROLL, OVIE | DIRECTOR, CYBERCRIME LABORATORY, COMPUTER CRIME AND INTELLECTUAL PROPERTY SECTION.
CARWILE, P. KEVIN | CHIEF, CAPITAL CASE UNIT.
DUBOSE, MICHAEL M | CHIEF, COMPUTER CRIME, AND INTELLECTUAL PROPERTY SECTION.
FELTON, KATHLEEN A | DEPUTY CHIEF, APPELLATE SECTION.
GLAZER, SIDNEY | SPECIAL COUNSEL FOR APPEALS.
GRIFFEY, MARGARET P | SENIOR COUNSEL, OFFICE OF INTERNATIONAL AFFAIRS.
HULSER, RAYMOND | DEPUTY CHIEF, PUBLIC INTEGRITY SECTION.
JONES, JOSEPH M | SENIOR COUNSEL FOR INTERNATIONAL DEVELOPMENT AND TRAINING.
KING, DAMON A | SENIOR LITIGATION COUNSEL, CHILD EXPLOITATION AND OBSCENITY SECTION.
LYNCH JR., JOHN T | DEPUTY CHIEF, COMPUTER CRIME AND INTELLECTUAL PROPERTY SECTION.
MASCHINO, KARL J | EXECUTIVE OFFICER.
MCHENRY, TERESA L | CHIEF, HUMAN RIGHTS AND SPECIAL PROSECUTIONS SECTION.
MCINERNEY, DENIS J | CHIEF, FRAUD SECTION.
MORRIS, BRENDA K | SENIOR LITIGATION COUNSEL.
O'BRIEN, PAUL M | DIRECTOR, OFFICE OF ENFORCEMENT OPERATIONS.
OHR, BRUCE G | CHIEF, ORGANIZED CRIME AND RACKETEERING SECTION.
OOSTERBAAN, ANDREW | CHIEF, CHILD EXPLOITATION AND OBSCENITY SECTION.
PAINTER, CHRISTOPHER M | SENIOR COUNSEL FOR CYBERCRIME.
POPE, AMY | COUNSELOR TO THE ASSISTANT ATTORNEY GENERAL.
RAABE, WAYNE C | DEPUTY CHIEF, NARCOTIC AND DANGEROUS DRUG SECTION.
RAMASWAMY, JAIKUMAR | DEPUTY CHIEF, ASSET FORFEITURE AND MONEY LAUNDERING SECTION.
ROBINSON, STEWART C | DEPUTY DIRECTOR, OFFICE OF INTERNATIONAL AFFAIRS.
ROSENBAUM, ELI M | DIRECTOR, HUMAN RIGHTS ENFORCEMENT STRATEGY AND POLICY.
SMITH, JOHN “JACK” L | CHIEF, PUBLIC INTEGRITY SECTION.
STEMLER, PATTY MERKAMP | CHIEF, APPELLATE SECTION.
TREVILLIAN IV, ROBERT C | DIRECTOR, INTERNATIONAL CRIMINAL INVESTIGATIVE TRAINING ASSISTANCE PROGRAM.
WARLOW, MARY ELLEN | DIRECTOR, OFFICE OF INTERNATIONAL AFFAIRS.
WARREN, MARY LEE | SENIOR LITIGATION COUNSEL.
WEBB, JANET D | DEPUTY DIRECTOR, OFFICE OF ENFORCEMENT OPERATIONS.
WELCH II, WILLIAM M | SENIOR LITIGATION COUNSEL.
WROBLEWSKI, JONATHAN J | DIRECTOR, OFFICE OF POLICY AND LEGISLATION.
WYATT, ARTHUR G | CHIEF, NARCOTIC AND DANGEROUS DRUG SECTION.
Environmental and Natural Resources Division—ENRD
DREHER, ROBERT E | PRINCIPAL DEPUTY ASSISTANT ATTORNEY GENERAL.
SHENKMAN, ETHAN | DEPUTY ASSISTANT ATTORNEY GENERAL.
WILLIAMS, JEAN E | DEPUTY ASSISTANT ATTORNEY GENERAL (ENVIRONMENTAL CRIMES AND WILDLIFE AND MARINE RESOURCES SECTIONS).
ALEXANDER, S. CRAIG | CHIEF, INDIAN RESOURCES SECTION.
BARSKY, SETH | CHIEF, WILDLIFE AND MARINE RESOURCES.
CLARK II, TOM C | DEPUTY CHIEF, NATURAL RESOURCES SECTION.
COLLIER, ANDREW | EXECUTIVE OFFICER.
DISHEROON, FRED R | SENIOR LITIGATION COUNSEL ATTORNEY EXAMINER.
FISHEROW, W. BENJAMIN | DEPUTY CHIEF, ENVIRONMENTAL ENFORCEMENT SECTION.
GELBER, BRUCE S | CHIEF, ENVIRONMENTAL ENFORCEMENT SECTION.
GOLDFRANK, ANDREW M | CHIEF, LAND ACQUISITION SECTION.
GRISHAW, LETITIA J | CHIEF, ENVIRONMENTAL DEFENSE SECTION.
HOANG, ANTHONY P | SENIOR LITIGATION COUNSEL.
KILBOURNE, JAMES C | CHIEF, APPELLATE SECTION.
MAHAN, ELLEN M | DEPUTY CHIEF, ENVIRONMENTAL ENFORCEMENT SECTION.
MERGEN, ANDREW | DEPUTY CHIEF, APPELLATE SECTION.
MITCHELL, STACEY H | CHIEF, ENVIRONMENTAL CRIMES SECTION.
RUSSELL, LISA L | CHIEF, NATURAL RESOURCES SECTION.
STEWART, HOWARD P | SENIOR LITIGATION COUNSEL.
TENENBAUM, ALAN S | SENIOR LITIGATION COUNSEL.
VADEN, CHRISTOPHER S | DEPUTY CHIEF, ENVIRONMENTAL DEFENSE SECTION.
WARDZINSKI, KAREN M | CHIEF, LAW AND POLICY SECTION.
Executive Office for Immigration Review—EOIR
OSUNA, JUAN P | DIRECTOR.
ADKINS-BLANCH, CHARLES K | ATTORNEY EXAMINER.
COLE, PATRICIA A | ATTORNEY EXAMINER.
CREPPY, MICHAEL | ATTORNEY EXAMINER.
ESPENOZA, CECELIA MARIE | SENIOR ASSOCIATE GENERAL COUNSEL.
FILPPU, LAURI S | ATTORNEY EXAMINER.
GRANT, EDWARD R | ATTORNEY EXAMINER.
GREER, ANNE J | ATTORNEY EXAMINER.
GUENDELSBERGER, JOHN W | ATTORNEY EXAMINER.
HOLMES, DAVID B | ATTORNEY EXAMINER.
MALPHRUS, GARRY D | ATTORNEY EXAMINER.
MILLER, NEIL P | ATTORNEY EXAMINER.
MULLANE, HUGH G | ATTORNEY EXAMINER.
NASCA, PAULA N | ASSOCIATE DIRECTOR.
NEAL, DAVID | VICE CHAIRMAN, BOARD OF IMMIGRATION APPEALS.
O'LEARY, BRIAN M | CHIEF IMMIGRATION JUDGE.
PAULEY, ROGER ANDREW | ATTORNEY EXAMINER.
SCHMIDT, PAUL W | SENIOR IMMIGRATION JUDGE.
STUTMAN, ROBIN M | GENERAL COUNSEL.
WENDTLAND, LINDA S | ATTORNEY EXAMINER.
Executive Office for Organized Crime Drug Enforcement Task Forces—OCDETF
DINAN, JAMES H | EXECUTIVE DIRECTOR.
PADDEN, THOMAS W | DEPUTY DIRECTOR, OCDETF.
Executive Office for U.S. Attorneys—EOUSA
JARRETT, HOWARD MARSHALL | DIRECTOR.
BELL, SUZANNE L | DEPUTY DIRECTOR.
GUGULIS, KATHERINE C | DEPUTY DIRECTOR ADMINISTRATION.
BEVELS, LISA A | CHIEF FINANCIAL OFFICER.
FLESHMAN, JAMES MARK | CHIEF INFORMATION OFFICER.
GIBSON, WAYNE | CHIEF OF PLANNING, EVALUATION AND PERFORMANCE.
MACKLIN, JAMES | GENERAL COUNSEL.
SMITH, DAVID L | COUNSEL FOR LEGAL INITIATIVES.
SUDDES, PAUL | PROJECT MANAGER—PALMETTO PROJECT.
VILLEGAS, DANIEL A | COUNSEL, LEGAL PROGAMS AND POLICY.
WISH, JUDITH | SPECIAL COUNSEL TO THE PRINCIPAL DEPUTY DIRECTOR.
WONG, NORMAN Y | COUNSEL TO THE DIRECTOR.
Executive Office for U.S. Trustees—EOUST
WHITE III, CLIFFORD J | DIRECTOR.
CREWSON, PHILIP E | DEPUTY DIRECTOR MANAGEMENT.
ELLIOTT, RAMONA D | DEPUTY DIRECTOR GENERAL COUNSEL.
REDMILES, MARK A | DEPUTY DIRECTOR FIELD OPERATIONS.
Justice Management Division—JMD
LOFTHUS, LEE J | ASSISTANT ATTORNEY GENERAL FOR ADMINISTRATION.
SANTANGELO, MARI BARR | DEPUTY ASSISTANT ATTORNEY GENERAL FOR HUMAN RESOURCES AND ADMINISTRATION (CHCO).
ALLEN, MICHAEL H | DEPUTY ASSISTANT ATTORNEY GENERAL FOR POLICY, MANAGEMENT, AND PLANNING, AND CHIEF OF STAFF.
LAURIA-SULLENS, JOLENE A | DEPUTY ASSISTANT ATTORNEY GENERAL/CONTROLLER.
ALVAREZ, CHRISTOPHER C | DEPUTY DIRECTOR (AUDITING), FINANCE STAFF.
ATSATT, MARILYNN B | DEPUTY DIRECTOR, BUDGET STAFF, PROGRAMS AND PERFORMANCE.
BEASLEY, ROGER | DIRECTOR, OPERATIONS SERVICES STAFF.
CLAREY, KATHRYN L | SPECIAL ADVISOR FOR FINANCIAL MANAGEMENT INFORMATION TECHNOLOGY.
DEELEY, KEVIN | DEPUTY CHIEF INFORMATION OFFICER FOR IT SECURITY.
DEFALAISE, LOUIS | DIRECTOR, OFFICE OF ATTORNEY RECRUITMENT AND MANAGEMENT.
DUNLAP, JAMES L | DIRECTOR, SECURITY AND EMERGENCY PLANNING STAFF.
FELDT, DENNIS G | DIRECTOR, LIBRARY STAFF.
HAMILTON, EDWARD A | DIRECTOR, FACILITIES AND ADMINISTRATIVE SERVICES STAFF.
HOLTGREWE, KENT L | DIRECTOR, IT POLICY AND PLANNING STAFF.
JOHNSTON, JAMES W | DIRECTOR, PROCUREMENT SERVICES STAFF.
JORDAN, WYEVETRA | APPROPRIATION LIAISON OFFICER.
MORGAN, MELINDA B | DIRECTOR, FINANCE STAFF.
MURRAY, JOHN W | DIRECTOR, ENTERPRISE SOLUTIONS STAFF.
NORRIS, J. TREVOR | DEPUTY DIRECTOR, HUMAN RESOURCES.
O'BRIEN, HOLLEY | DIRECTOR, DEBT COLLECTION MANAGEMENT STAFF.
OLDS, CANDACE A | DIRECTOR, ASSET FORFEITURE MANAGEMENT STAFF.
O'LEARY, KARIN | DIRECTOR, BUDGET STAFF.
OLSON, ERIC R | DEPUTY, CHIEF INFORMATION OFFICER FOR E-GOVERNMENT SERVICES STAFF.
RODGERS, JANICE M | DIRECTOR, DEPARTMENTAL ETHICS OFFICE.
TOSCANO JR., RICHARD A | DIRECTOR, EQUAL EMPLOYMENT OPPORTUNITY STAFF.
National Drug Intelligence Center—NDIC
WALTHER, MICHAEL F | DIRECTOR.
TOMLINSON, TONY | DEPUTY DIRECTOR.
National Security Division—NSD
WIEGMANN, JOHN B | DEPUTY ASSISTANT ATTORNEY GENERAL (MANAGEMENT AND SPECIAL PROJECTS).
GAUHAR, TASHINA | DEPUTY ASSISTANT ATTORNEY GENERAL.
HINNEN, TODD | DEPUTY ASSISTANT ATTORNEY GENERAL.
TOSCAS, GEORGE Z | DEPUTY ASSISTANT ATTORNEY GENERAL (COUNTERESPIONAGE-COUNTERTERRORISM).
BRADLEY, MARK A | SPECIAL COUNSEL FOR OVERSIGHT SECTION.
DION, JOHN J | CHIEF, COUNTERESPIONAGE SECTION.
DUNNE, STEVEN M | CHIEF, APPELLATE UNIT.
EVANS, STUART | DEPUTY CHIEF, OPERATIONS SECTION.
KAYE, JANICE A | ETHICS OFFICER.
KEEGAN, MICHAEL | DEPUTY CHIEF, COUNTERTERRORISM SECTION.
KENNEDY, J. LIONEL | SPECIAL COUNSEL FOR NATIONAL SECURITY.
MULLANEY, MICHAEL J | CHIEF, COUNTERTERRORISM SECTION.
O'CONNOR, KEVIN | CHIEF, OVERSIGHT SECTION.
PELAK, STEVEN W | DEPUTY CHIEF, COUNTERESPIONAGE SECTION.
SANZ-REXACH, GABRIEL | CHIEF, OPERATIONS SECTION.
WALTER, SHERYL L | EXECUTIVE OFFICER.
Office of Community Oriented Policing Services—COPS
MELEKIAN, BERNARD K | DIRECTOR.
EDERHEIMER, JOSHUA A | PRINCIPAL DEPUTY DIRECTOR.
Office of Dispute Resolution—ODR
JACOBS, JOANNA | SENIOR COUNSEL FOR ALTERNATIVE DISPUTE RESOLUTION.
Office of Information Policy—OIP
PUSTAY, MELANIE ANN | DIRECTOR.
Office of the Inspector General—OIG
SCHNEDAR, CYNTHIA A | DEPUTY INSPECTOR GENERAL.
BEAUDET, RAYMOND J | ASSISTANT INSPECTOR GENERAL FOR AUDIT.
BLIER, WILLIAM M | SENIOR COUNSELOR TO THE INSPECTOR GENERAL.
DORSETT, GEORGE L | DEPUTY ASSISTANT INSPECTOR GENERAL FOR INVESTIGATIONS.
FORTINE OCHOA, CAROL | ASSISTANT INSPECTOR GENERAL FOR OVERSIGHT AND REVIEW.
GULLEDGE, MICHAEL D | ASSISTANT INSPECTOR GENERAL FOR EVALUATION AND INSPECTIONS.
MARSKE, CARYN A | DEPUTY ASSISTANT INSPECTOR GENERAL FOR AUDIT.
MCLAUGHLIN, THOMAS F | ASSISTANT INSPECTOR GENERAL INVESTIGATIONS.
PETERS, GREGORY T | ASSISTANT INSPECTOR GENERAL FOR MANAGEMENT AND PLANNING.
ROBINSON, GAIL A | GENERAL COUNSEL.
Office of Intergovernmental and Public Liaison—OIPL
ROBERSON, PORTIA L | DIRECTOR.
Office of Justice Programs—OJP
LEARY, MARY LOU | PRINCIPAL DEPUTY ASSISTANT ATTORNEY GENERAL.
AYERS, NANCY LYNN | DEPUTY ADMINISTRATOR FOR POLICY, OJJDP.
BURCH II, JAMES H | DEPUTY DIRECTOR, POLICY AND MANAGEMENT, BUREAU OF JUSTICE ASSISTANCE.
FROST, JOYE | DEPUTY DIRECTOR, OFFICE FOR VICTIMS OF CRIME.
GARRY, EILEEN M | DEPUTY DIRECTOR FOR PLANNING, BUREAU OF JUSTICE ASSISTANCE.
GREENFELD, LAWRENCE A | DEPUTY DIRECTOR, PROGRAMS, BUREAU OF JUSTICE ASSISTANCE.
GREENHOUSE, DENNIS E | DIRECTOR, COMMUNITY CAPACITY DEVELOPMENT OFFICE.
HANES, MELODEE | COUNSELOR TO THE ADMINISTRATOR, OJJDP.
FEUCHT, THOMAS E | EXECUTIVE SCIENCE ADVISOR, NATIONAL INSTITUTE OF JUSTICE.
HENNEBERG, MAUREEN A | DIRECTOR, OFFICE OF AUDIT, ASSESSMENT, AND MANAGEMENT.
IWANOW, WALTER | CHIEF INFORMATION OFFICER.
MADAN, RAFAEL A | GENERAL COUNSEL.
MERKLE, PHILLIP | DIRECTOR, OFFICE OF ADMINISTRATION.
ROBERTS, MARILYN M | DEPUTY ADMINISTRATOR FOR PROGRAMS, OJJDP.
SABOL, WILLIAM | DEPUTY DIRECTOR, BUREAU OF JUSTICE STATISTICS.
SCRIVNER, ELLEN M | DEPUTY DIRECTOR, NATIONAL INSTITUTE OF JUSTICE.
BALDWIN, LINDA | SMART COORDINATOR.
BENDA, BONNIE LEIGH | CHIEF FINANCIAL OFFICER.
BECK, ALLEN J | SENIOR STATISTICIAN.
Office of Legal Counsel—OLC
KRASS, CAROLINE DIANE | PRINCIPAL DEPUTY ASSISTANT ATTORNEY GENERAL.
KOFFSKY, DANIEL L | DEPUTY ASSISTANT ATTORNEY GENERAL.
POWELL, HAYWOOD J | DEPUTY ASSISTANT ATTORNEY GENERAL.
RODRIGUEZ, CRISTINA | DEPUTY ASSISTANT ATTORNEY GENERAL.
BIES, JOHN | DEPUTY ASSISTANT ATTORNEY GENERAL.
THOMPSON, KARL R | DEPUTY ASSISTANT ATTORNEY GENERAL.
COLBORN, PAUL P | SPECIAL COUNSEL.
HART, ROSEMARY A | SPECIAL COUNSEL.
SINGDAHLSEN, JEFFREY P | SENIOR COUNSEL.
Office of Legal Policy—OLP
HARRIS, PAMELA | PRINCIPAL DEPUTY ASSISTANT ATTORNEY GENERAL.
JONES, KEVIN ROBERT | DEPUTY ASSISTANT ATTORNEY GENERAL.
THIEMANN, ROBYN L | DEPUTY ASSISTANT ATTORNEY GENERAL.
TYRANGIEL, ELANA | DEPUTY ASSISTANT ATTORNEY GENERAL.
ZUBRENSKY, MICHAEL | DEPUTY ASSISTANT ATTORNEY GENERAL.
KARP, DAVID J | SENIOR COUNSEL.
Office of Legislative Affairs—OLA
AGRAST, MARK D | DEPUTY ASSISTANT ATTORNEY GENERAL.
APPELBAUM, JUDITH C | DEPUTY ASSISTANT ATTORNEY GENERAL.
BURTON, M. FAITH | SPECIAL COUNSEL.
Office of Professional Responsibility—OPR
ASHTON, ROBIN | COUNSEL FOR PROFESSIONAL RESPONSIBILITY.
WEINSHEIMER, G. BRADLEY | DEPUTY COUNSEL ON PROFESSIONAL RESPONSIBILITY.
Office of Public Affairs—PAO
SCHMALER, TRACY | DIRECTOR.
Office of the Federal Detention Trustee—OFDT
PEARSON, MICHAEL A | FEDERAL DETENTION TRUSTEE.
MUSEL, DAVID F | DIRECTOR, JPATS.
VARGO, BRUCE E | SENIOR ADVISOR (DEPUTY).
Office of the Pardon Attorney—OPA
RODGERS, RONALD L | PARDON ATTORNEY.
Office on Violence Against Women—OVW
HANSON, BEATRICE | PRINCIPAL DEPUTY DIRECTOR.
Professional Responsibility Advisory Office—PRAO
DUNSTON, JERRI U | DIRECTOR.
Tax Division—TAX
DICICCO, JOHN | DEPUTY ASSISTANT ATTORNEY GENERAL.
CIMINO, RONALD ALLEN | DEPUTY ASSISTANT ATTORNEY GENERAL.
YOUNG, JOSEPH E | EXECUTIVE OFFICER.
BALLWEG, MITCHELL J | CHIEF, CRIMINAL ENFORCEMENT SECTION, WESTERN REGION.
CIHLAR, FRANK P | CHIEF, CRIMINAL APPEALS AND TAX ENFORCEMENT POLICY SECTION.
DONOHUE, DENNIS M | SENIOR LITIGATION COUNSEL.
DOWNING, KEVIN M | SENIOR TRIAL ATTORNEY.
FRAHM, STEVEN I | CHIEF, CLAIMS COURT SECTION.
GIBSON, STUART D | SENIOR TRIAL ATTORNEY.
HAGLEY, JUDITH | SENIOR TRIAL ATTORNEY.
HARTT III, GROVER | SENIOR TRIAL ATTORNEY.
HEALD, SETH G | CHIEF, CIVIL TRIAL SECTION, CENTRAL REGION.
HUBBERT, DAVID A | CHIEF, CIVIL TRIAL SECTION, EASTERN REGION.
HYTKEN, LOUISE P | CHIEF, CIVIL TRIAL SECTION, SOUTHWESTERN REGION.
JOHNSON, CORY | SENIOR TRIAL ATTORNEY.
KEARNS, MICHAEL J | CHIEF, CIVIL TRIAL SECTION, SOUTHERN REGION.
KOVACEV, ROBERT | SENIOR TRIAL ATTORNEY.
LINDQUIST III, JOHN A | SENIOR TRIAL ATTORNEY.
MELAND, DEBORAH | CHIEF, OFFICE OF REVIEW.
MULLARKEY, DANIEL P | CHIEF, CIVIL TRIAL SECTION, NORTHERN REGION.
PAGUNI, ROSEMARY E | CHIEF, CRIMINAL ENFORCEMENT SECTION, NORTHERN REGION.
ROTHENBERG, GILBERT S | CHIEF, APPELLATE SECTION.
SALAD, BRUCE M | CHIEF, CRIMINAL ENFORCEMENT SECTION, SOUTHERN REGION.
SAWYER, THOMAS | SENIOR TRIAL ATTORNEY.
SERGI, JOSEPH A | SENIOR TRIAL ATTORNEY.
SHATZ, EILEEN M | SPECIAL LITIGATION COUNSEL.
SMITH, COREY J | SENIOR TRIAL ATTORNEY.
STEHLIK, NOREENE C | SENIOR TRIAL ATTORNEY.
SULLIVAN, JOHN | SENIOR TRIAL ATTORNEY.
WARD, RICHARD | CHIEF, CIVIL TRIAL SECTION WESTERN REGION.
U.S. Marshals Service—USMS
DUDLEY, CHARLES C | DEPUTY DIRECTOR.
AUERBACH, GERALD | GENERAL COUNSEL.
BROWN, SHANNON B | ASSISTANT DIRECTOR, MANAGEMENT SUPPORT.
CALLAGHAN, DARLA KAY | ASSISTANT DIRECTOR, HUMAN RESOURCES.
DAVIS, LISA M | ASSISTANT DIRECTOR, INFORMATION TECHNOLOGY.
FALLON, WILLIAM T | ASSISTANT DIRECTOR, TRAINING.
JONES, SYLVESTER E | ASSISTANT DIRECTOR, WITNESS SECURITY.
MERTENS, STEVEN M | ASSOCIATE DIRECTOR, ADMINISTRATION.
MORALES, EBEN | ASSISTANT DIRECTOR, ASSET FORFEITURE.
PROUT, MICHAEL J | ASSISTANT DIRECTOR, OFFICE OF INSPECTION.
ROLSTAD, SCOTT C | ASSISTANT DIRECTOR FOR JUSTICE PRISONER AND ALIEN TRANSPORTATION SYSTEM.
SNELSON, WILLIAM D | ASSISTANT DIRECTOR, TACTICAL OPERATIONS.
EARP, THOMAS M | ASSOCIATE DIRECTOR, OPERATIONS.
DOLAN, EDWARD | SPECIAL ASSISTANT FOR FINANCIAL SYSTEMS.

[FR Doc. 2011-23394 Filed 9-12-11; 8:45 am]

BILLING CODE 4410-NW-P